DEPARTMENT OF TRANSPORTATION

Office of the Secretary Office of Aviation Analysis; Notice of request for renewal of a previously approved collection.

AGENCY: Office of the Secretary, DOT.

ACTION: Notice.

SUMMARY: In accordance with the Paperwork Reduction Act of 1995 (44 U.S.C. chapter 35, as amended), this notice announces the Department of Transportation's, DOT intention to request renewal of a previously approved collection.

DATES: Comments on this notice must be received by July 14, 2000.

ADDRESSES: Comments should be directed to the Air Carrier Fitness Division, X-56, Office of Aviation Analysis, Office of the Secretary, US Department of Transportation, 400 Seventh Street, SW., Washington, DC 20590.

FOR FURTHER INFORMATION CONTACT: Delores King, Air Carrier Fitness Division, X-56, Office of Aviation Analysis, Office of the Secretary, US Department of Transportation, 400 Seventh Street, SW., Washington, DC 20590, (202) 366-2343.

SUPPLEMENTARY INFORMATION: Title: Use and Change of Names of Air Carriers, Foreign Air Charters, and Commuter Air Carriers, 14 CFR Part 215.

OMB Control Number: 2106-0043.

Type of Request: Renewal without change, of a previously approved collection.

Abstract: In accordance with the procedures set forth in 14 CFR Part 215, before a holder of certificated, foreign, or commuter air carrier authority may hold itself out to the public in any particular name or trade name, it must register that name or trade name with the Department, and notify all other certificated, foreign, and commuter air carriers that have registered the same or similar name(s) of the intended name registration.

Respondents: Persons seeking to use or change the name or trade name in which they hold themselves out to the public as an air carrier or foreign air carrier.

Estimated Number of Respondents: 19.

Average Annual Burden per Respondent: 4.6 hours.

Estimated Total Burden on Respondents: 87.4 hours.

This information collection is available for inspection at the Air Carrier Fitness Division, X-56, Office of Aviation Analysis, DOT, at the address above. Copies of 14 CFR Part 215 can be obtained from Ms. Delores King at the address and telephone number shown above.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval. All comments will also become a matter of public record.

Issued in Washington, DC on May 5, 2000.
Randall D. Bennett,
Acting Director, Office of Aviation Analysis.

[FR Doc. 00-12035 Filed 5-12-00; 8:45 am]

BILLING CODE 4910-62-P